DEPARTMENT OF DEFENSE

National Reconnaissance Office; Privacy Act of 1974; System of Records

AGENCY: National Reconnaissance Office, DoD.

ACTION: Notice to Add Systems of Records; QNRO-24 Administrative Personnel Management Systems.

SUMMARY: The National Reconnaissance Office proposes to add a system of records to its inventory of record system subject to the Privacy Act of 1974, (5 U.S.C. 552a), as amended.

DATES: This proposed action will be effective without further notice on October 3, 2005 unless comments are received which result in a contrary determination.

ADDRESSES: Send comments to the FOIA/Privacy Official, National Reconnaissance Office, Information Access and Release, 14675 Lee Road, Chantilly, VA 20151-1715.

FOR FURTHER INFORMATION CONTACT: Contact the FOIA/NRO Privacy Official at (703) 227-9128.

SUPPLEMENTARY INFORMATION: The National Reconnaissance Office systems of records notices subject to the Privacy Act of 1974, (5 U.S.C. 552a), as amended, have been published in the Federal Register and are available from the address above.

The proposed system report, as required by 5 U.S.C. 552a(r) of the Privacy Act of 1974, as amended, was submitted on August 24, 2005, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: August 25, 2005.
Jeanette Owings-Ballard,
OSD Federal Register Liaison Officer, Department of Defense.

QNRO-24

System name:

Administrative Personnel Management Systems.

System location:

Organizational elements of the National Reconnaissance Office. 14675 Lee Road, Chantilly, VA 20151-175.

Categories of individuals covered by the system:

All NRO civilian, military and contract personnel.

Categories of records in the system:

Personal Information such as name, aliases or nicknames, social security number (SSN), date of birth, place of birth, home address, home telephone number, cell phone number, pager, education, spouse name, emergency contact information, vehicle and tag information, gender, nationality, citizenship, marital status, age, annual salary, wage type, ethnicity, disability, personal assignment code;

Work related information such as work e-mail address, accesses, parent organization, work telephone number, employee number, company, company address, position number and title, rank and date, agency/organization/office arrival and departure dates, assignment history, labor type, pay grade, network logon, location, career service, employee status (active/inactive), duty title, last assignment, badge numbers, personal classification number, space professional codes;

Performance related information such as awards, performance report due dates, raters, training history (course name, date, hours, course provider, certificate, program call), Contracting Officers Technical Representative (COTR) certifications and date, Individual Development Plan (IDP) courses;

Travel related information such as government credit card number and expiration date, airline/hotel/rental car information and frequent flyer/club numbers, airline seating preference, miles from home to office, miles from home to airport.

Other information such as property checked out to individual, Air Force specialty code, report closeout dates; and any other information deemed necessary to manage personnel.

Authority for maintenance of the system:

50 U.S.C. 401 et seq.; 5 U.S.C. 301 Departmental Regulations; E.O. 9397 (SSN); E.O. 12958, as amended; E.O. 12333.

Purpose(s):

To manage, supervise, and administer NRO personnel support programs relating to personnel management, official travel, awards, training, loan of property, security, emergency recall rosters and contact information; to support organizational and personnel reporting requirements; to support organizational and strategic planning and workforce modeling; and to respond to personnel or related taskings.

Routine uses of records maintained in the system, including categories of users and the purposes of such uses:

In addition to those disclosures generally permitted under 5 U.S.C. 552a(b) of the Privacy Act, these records or information contained therein may specifically be disclosed outside the National Reconnaissance Office as a routine use pursuant to 5 U.S.C. 552a(b)(3) as follows:

The DoD “Blanket Routines Uses” published at the beginning of the National Reconnaissance Office's compilation of systems of records notices apply to this system.

Policies and practices for storing, retrieving, accessing, retaining, and disposing of records in the system:

Storage:

Paper files and Automated Information Systems.

Retrievability:

Information may be retrieved by an individual's name, Social Security Number (SSN), employee number, home or work telephone number, parent organization, company, and/or position number.

Safeguards:

Records are stored in a secure, gated facility, guard, badge, and password access protected. Access to and use of these records are limited to staff whose official duties require such access.

Retention and disposal:

Office administrative files, tracking and control files, and property inventory records are temporary; they are kept for 2 years from the date of the list or date of the report.

Training administrative files are temporary; they are kept for 3 years.

Supervisory files are temporary; they are kept for 1 year.

Security reports generated from information systems are temporary; they are kept for 5 years. Data files created consisting of summarized information are temporary; they are kept until no longer needed.

Reports created in response to any tasking from Congress, Community Management Staff, DoD and other external agencies are temporary; they are kept until superceded or when no longer needed.

Award related files such as recommendations, decisions, and announcements are temporary; they are kept for 25 years. Electronic documentation used to create the award related files is destroyed 180 days after the record copy has been produced.

System manager(s) and address:

Chiefs of organizational elements of the National Reconnaissance Office, 14675 Lee Road, Chantilly, VA 20151-1715.

Notification procedure:

Individuals seeking to determine whether this system of records contains information about themselves should address written inquiries to the National Reconnaissance Office, Information Access and Release Center, 14675 Lee Road, Chantilly, VA 20151-1715.

Request should include full name and any aliases or nicknames, address, Social Security Number, current citizenship status, and date and place of birth, and other information identifiable from the record.

In addition, the requester must provide a notarized statement or an unsworn declaration in accordance with 28 U.S.C. 1746, in the following format:

If executed without the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Record access procedures:

Individuals seeking to access information about themselves contained in this system should address written inquiries to the National Reconnaissance Office, Information Access and Release Center, 14675 Lee Road, Chantilly, VA 20151-1715.

Request should include full name and any aliases or nicknames, address, Social Security Number, current citizenship status, and date and place of birth, and other information identifiable from the record.

In addition, the requester must provide a notarized statement or an unsworn declaration in accordance with 28 U.S.C. 1746, in the following format:

If executed without the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Contesting record procedures:

The National Reconnaissance Office rules for accessing records, for contesting contents and appealing initial agency determinations are published in National Reconnaissance Office Directive 110-3A and National Reconnaissance Office Instruction 110-5A; 32 CFR part 326; or may be obtained from the Privacy Act Coordinator, National Reconnaissance Office, 14675 Lee Road, Chantilly, VA 20151-1715.

Record source categories:

Information is supplied by the individual, by persons other than the individual, and by documentation gathered in the background investigation, and other government agencies.

Exemptions claimed for the system:

None.

[FR Doc. 05-17314 Filed 8-31-05; 8:45 am]

BILLING CODE 5001-06-P